DEPARTMENT OF TRANSPORTATION

Surface Transportation Board

[STB Finance Docket No. 34365]

New England Transrail, LLC—Acquisition and Operation Exemption—Lines of Boston and Maine Railroad Company

New England Transrail, LLC, d/b/a the Wilmington and Woburn Terminal Railroad Co. (New England Transrail), a noncarrier, has filed a verified notice of exemption under 49 CFR 1150.31¹ to acquire and operate, from Boston and Maine Railroad Company (B&M), segments of a line of railroad extending from milepost 13.25 on the Massachusetts Bay Metropolitan Transportation Authority (MBTA) Boston-Concord main line in Woburn, MA (on which B&M retains freight service rights), to a junction with B&M at about milepost 14 on B&M's Wilmington-Woburn-Medford branch, located at a junction south of Eames Street in Wilmington, MA. The line segments are: (1) From milepost 13.25 extending approximately two-tenths of a mile in a northerly direction; (2) from a point at about milepost 14 extending approximately two-tenths of a mile in an easterly direction (including the restoration of a previously removed switch and related track); and (3) from a point near the western end of the track described in (2) above and extending one-tenth of a mile in a southerly direction (including a switch).²

¹ Under 49 CFR 1150.32(b), an exemption normally becomes effective 7 days after the notice is filed. By decision served on June 26, 2003, the Board granted New England Transrail's request to delay the effective date of the exemption from June 26, 2003, until July 11, 2003. By letter filed on July 2, 2003, New England Transrail clarified the line description contained in the notice.

² New England Transrail states in the verified notice of exemption that it also proposes to construct a half-mile of new track to connect the Wilmington-Woburn-West Medford branch at a point just south of Eames Street to the MBTA main line in Woburn. The class exemption at 49 CFR 1150.31 applies to the acquisition and operation of rail properties, not to the construction of rail line. This notice which invokes that rules, exempts New England Transrail's acquisition and operation of the above-described segments, but does not permit the proposed construction to link the line segments acquired here. New England Transrail must seek construction authority from the Board under 49 U.S.C. 10901 and 49 CFR 1150.1 et seq. or an exemption from that authority under 49 U.S.C. 10502 and 49 CFR 1121.1 et seq. in a separate filing before it may undertake the proposed construction. At that time, the Board's Section of Environmental Analysis (SEA) will conduct the appropriate level of environmental review of the proposed new rail line construction and operation. The environmental review will include any other planned actions that would not occur but for the proposed new rail line, which would likely include a proposed truck-rail reload facility. Before filing for construction authority, New England Transrail should contact SEA to initiate a consultation in compliance with the Board's environmental rules at 49 CFR 1105.10(a)(1) and to discuss the proposed rail line construction and SEA's environmental review process in more detail.

New England Transrail certifies that its projected annual revenues will not exceed those that would qualify it as a Class III rail carrier.

If the notice contains false or misleading information, the exemption is void ab initio. Petitions to revoke the exemption under 49 U.S.C. 10502(d) may be filed at any time. The filing of a petition to revoke will not automatically stay the transaction.

An original and 10 copies of all pleadings, referring to STB Finance Docket No. 34365, must be filed with the Surface Transportation Board, 1925 K Street, NW, Washington, DC 20423-0001. In addition, one copy of each pleading must be served on Paul Jacobi, Jacobi & Case, P.C., 300 Bic Drive, Milford, CT 06460-3055.

Board decisions and notices are available on our Web site at http://www.stb.dot.gov.

By the Board, Joseph H. Dettmar, Acting Director, Office of Proceedings.
Decided: July 3, 2003.
Vernon A. Williams,
Secretary.

[FR Doc. 03-17381 Filed 7-9-03; 8:45 am]

BILLING CODE 4915-00-P